DEPARTMENT OF LABOR

Occupational Safety and Health Administration

[Docket No. OSHA-2007-0039]

Intertek Testing Services NA, Inc.: Grant of Expansion of Recognition

AGENCY: Occupational Safety and Health Administration (OSHA), Labor.

ACTION: Notice.

SUMMARY: In this notice, OSHA announces the final decision to expand the scope of recognition of Intertek Testing Services NA, Inc. as a Nationally Recognized Testing Laboratory (NRTL).

DATES: The expansion of the scope of recognition becomes effective on August 22, 2025.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-2300 or email: robinson.kevin@dol.gov.

SUPPLEMENTARY INFORMATION:

I. Notice of Final Decision

OSHA hereby gives notice of the expansion of the scope of recognition for Intertek Testing Services NA, Inc. (ITSNA), as a NRTL. ITSNA's expansion covers the addition of one test standard to the NRTL scope of recognition.

OSHA recognition of a NRTL signifies that the organization meets the requirements specified in 29 CFR 1910.7. Recognition is an acknowledgment that the organization can perform independent safety testing and certification of the specific products covered within the scope of recognition. Each NRTL's scope of recognition includes: (1) the type of products the NRTL may test, with each type specified by the applicable test standard; and (2) the recognized site(s) that has/have the technical capability to perform the product-testing and product-certification activities for test standards within the NRTL's scope. Recognition is not a delegation or grant of government authority; however, recognition enables employers to use products approved by the NRTL to meet OSHA standards that require product testing and certification.

The agency processes applications by a NRTL for initial recognition and for an expansion or renewal of this recognition, following requirements in Appendix A to 29 CFR 1910.7. This appendix requires that the agency publish two notices in the Federal Register in processing an application. In the first notice, OSHA announces the application and provides a preliminary finding. In the second notice, the agency provides a final decision on the application. These notices set forth the NRTL's scope of recognition or modifications of that scope. OSHA maintains an informational web page for each NRTL, including ITSNA, which details the NRTL's scope of recognition. These pages are available from the OSHA website at http://www.osha.gov/dts/otpca/nrtl/index.html.

ITSNA submitted an application dated February 15, 2021 (OSHA-2007-0039-0063), requesting the addition of one test standard to the NRTL scope of recognition. OSHA staff performed a detailed analysis of the application packet and reviewed other pertinent information. OSHA performed an on-site review of ITSNA's Cortland, New York facility on April 14-16, 2024, where assessors found nonconformances with 29 CFR 1910.7. ITSNA addressed these issues sufficiently.

OSHA published the preliminary notice announcing ITSNA's expansion application in the Federal Register on June 26, 2025 (90 FR 27344). The agency requested comments by July 11, 2025, and three anonymous comments were received in response. Two commenters ((OSHA-2007-0039-0067) and (OSHA-2007-0039-0068)) questioned how Intertek could issue NRTL certifications and conduct field evaluations to UL 9540 when UL 9540 was not yet within ITSNA's scope of NRTL recognition, and attached to their comments a product description for Energy Storage Systems and Equipment indicating that “a representative sample of the device(s) have been tested, investigated and found to comply with the requirements of the Standard(s) for energy storage systems and equipment (ANSI/CAN/UL 9540) and are identified with the cETL and/or ETL Listed Mark.” One commenter (OSHA-2007-0039-0066) stated that Intertek had listed 113 NRTL certificates without having the proper accreditation and attached to their comment an ITSNA certification directory indicating ITSNA had certified a number of products to ANSI/CAN/UL 9540, and several other test standards.

The agency reviewed the documentary evidence submitted by the commenters and also addressed the commenters' allegations directly with ITSNA. ITSNA advised OSHA that it has not included references to the NRTL Program in their quotes or Authorizations to mark UL 9540 certifications. ITSNA also provided copies of example UL 9540 certifications, which do not reference “NRTL.” NRTL certifications note “NRTL” on the authorization to mark. OSHA concludes based on its review that the ITSNA certifications to which the commenters objected were not NRTL certifications, and ITSNA did not misrepresent its scope of recognition as an NRTL. As such, no further action will be taken by the agency with respect to the commenters' allegations.

To obtain or review copies of all public documents pertaining to the ITSNA expansion application, go to www.regulations.gov or contact the Docket Office at (202) 693-2350 (TTY (877) 889-5627). Docket No. OSHA-2007-0039 contains all materials in the record containing ITSNA's recognition.

II. Final Decision and Order

OSHA staff examined ITSNA's expansion application and examined other pertinent information. Based on review of this evidence, OSHA finds that ITSNA meets the requirements of 29 CFR 1910.7 for expansion of recognition, subject to the specified limitations and conditions listed in this notice. OSHA, therefore, is proceeding with this final notice to grant ITSNA's scope of recognition. OSHA limits the expansion of ITSNA's recognition to testing and certification of products for demonstration of conformance to the test standard listed below in Table 1.

Table 1— Appropriate Test Standard for Inclusion in ITSNA's NRTL Scope of Recognition
Test standard | Test standard title
UL 9540 | Energy Storage Systems and Equipment.

OSHA's recognition of any NRTL for a particular test standard is limited to equipment or materials for which OSHA standards require third-party testing and certification before using them in the workplace. Consequently, if a test standard also covers any products for which OSHA does not require such testing and certification, a NRTL's scope of recognition does not include these products.

A. Conditions

Recognition is contingent on continued compliance with 29 CFR 1910.7, including, but not limited to, abiding by the following conditions of the recognition:

1. ITSNA must inform OSHA as soon as possible, in writing, of any change of ownership, facilities, or key personnel, and of any major change in its operations as a NRTL, and provide details of the change(s);

2. ITSNA must meet all the terms of its recognition and comply with all OSHA policies pertaining to this recognition; and

3. ITSNA must continue to meet the requirements for recognition, including all previously published conditions on ITSNA's scope of recognition, in all areas for which it has recognition.

Pursuant to the authority in 29 CFR 1910.7, OSHA hereby expands the scope of recognition of ITSNA as a NRTL, subject to the limitations and conditions specified above.

III. Authority and Signature

Amanda Laihow, Acting Assistant Secretary of Labor for Occupational Safety and Health, authorized the preparation of this notice. Accordingly, the agency is issuing this notice pursuant to 29 U.S.C. 657(g)(2), Secretary of Labor's Order No. 7-2027 (90 FR 27878; June 30, 2025), and 29 CFR 1910.7.

Signed at Washington, DC, on August 18, 2025.
Amanda Laihow,
Acting Assistant Secretary of Labor for Occupational Safety and Health.

[FR Doc. 2025-16094 Filed 8-21-25; 8:45 am]

BILLING CODE 4510-26-P